DEPARTMENT OF JUSTICE

Drug Enforcement Administration

Manufacturer of Controlled Substances; Notice of Registration; Cayman Chemical Company

By Notice dated November 14, 2012, and published in the Federal Register on November 23, 2012, 77 FR 70188, Cayman Chemical Company, 1180 East Ellsworth Road, Ann Arbor, Michigan 48108, made application to the Drug Enforcement Administration (DEA) to be registered as a bulk manufacturer of the following basic classes of controlled substances:

Drug | Schedule
JWH-250 (6250) | I
SR-18 also known as RCS-8 (7008) | I
JWH-019 (7019) | I
JWH-081 (7081) | I
SR-19 also known as RCS-4 (7104) | I
JWH-122 (7122) | I
AM-2201 (7201) | I
JWH-203 (7203) | I
2C-T-2 (7385) | I
JWH-398 (7398) | I
Psilocybin (7437) | I
Psilocyn (7438) | I
2C-D (7508) | I
2C-E (7509) | I
2C-H (7517) | I
2C-I (7518) | I
2C-C (7519) | I
2C-N (7521) | I
2C-P (7524) | I
2C-T-4 (7532) | I
AM-694 (7694) | I
Phenylacetone (8501) | I

The company plans to manufacture the listed controlled substances for distribution to their research and forensic customers conducting drug testing and analysis.

No comments or objections have been received. DEA has considered the factors in 21 U.S.C. 823(a) and determined that the registration of Cayman Chemical Company to manufacture the listed basic classes of controlled substances is consistent with the public interest at this time. DEA has investigated Cayman Chemical Company to ensure that the company's registration is consistent with the public interest. The investigation has included inspection and testing of the company's physical security systems, verification of the company's compliance with state and local laws, and a review of the company's background and history.

Therefore, pursuant to 21 U.S.C. 823(a), and in accordance with 21 CFR 1301.33, the above named company is granted registration as a bulk manufacturer of the basic classes of controlled substances listed.

Dated: April 16, 2013.
Joseph T. Rannazzisi,
Deputy Assistant Administrator, Office of Diversion Control, Drug Enforcement Administration.

[FR Doc. 2013-09530 Filed 4-22-13; 8:45 am]

BILLING CODE 4410-09-P